DEPARTMENT OF HOUSING AND URBAN DEVELOPMENT

[Docket No. FR-4630-FA-04]

Announcement of Funding Awards for Fiscal Year 2001; Historically Black Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2001 Historically Black Colleges and Universities Program. The purpose of this document is to announce the names and addresses of the award winners and the amount of the awards which are to be used to help Historically Black Colleges and Universities (HBCUs) expand their role and effectiveness in addressing community development needs in their localities, consistent with the purposes of HUD's Community Development Block Grant program (CDBG) .

FOR FURTHER INFORMATION CONTACT: Barbara Holland, Office of University Partnerships, U.S. Department of Housing and Urban Development, Room 8106, 451 Seventh Street, SW., Washington, DC 20410, telephone (202) 708-3061. To provide service for persons who are hearing-or-speech-impaired, this number may be reached via TTY by Dialing the Federal Information Relay Service on 1-800-877-TTY, 1-800-877-8339, or 202-708-1455. (Telephone number, other than “800” TTY numbers are not toll free.)

SUPPLEMENTARY INFORMATION: The Historically Black Colleges and Universities Program was enacted under section 107 of the CDBG appropriation for fiscal year 2001, as part of the “Veterans Administration, HUD and Independent Agencies Appropriations Act of 2001” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation and financing, property demolition or acquisition, public facilities, economic development, business entrepreneurship, and fair housing programs. On February 26, 2001 (66 FR 11747), HUD published a Notice of Funding Availability (NOFA) announcing the availability of $10 million in Fiscal Year 2001 funds for the HBCU Program. The Department reviewed, evaluated and scored the applications received based on the criteria in the NOFA. As a result, HUD 22 applications were funded. These grants, with their grant amounts are identified below.

The Catalog Federal Domestic Assistance number for this program is 14.237.

In accordance with section 102(a)(4)(C) of the Department of Housing and Urban Development Reform Act of 1989 (103 Stat. 1987, U.S.C. 3545), the Department is publishing details concerning the recipients of funding awards, as follows:

List of Awardees for Grant Assistance Under the FY 2001 Historically Black Colleges and Universities Program Funding Competition, by Name and Address

Mid-Atlantic

1. Bluefield State College, Dr. Felicia Wooten Blanks, Bluefield State College, 219 Rock Street, Bluefield, WV 24701. Grant: $300,000.

2. Bowie State University, Jean Humphrey, Bowie State University, 14000 Jericho Park Road, Bowie, MD 20715. Grant: $500,000.

Southeast/Caribbean

1. Alabama State University, Dr. William Brock, Sr., Alabama State University, 915 South Jackson Street, Montgomery, AL 36104. Grant: $499,917.

4. Barber-Scotia College, Dr. A. Erwin, Barber-Scotia College, 145 Carrabus Avenue West, Concord, NC 28025. Grant: $402,937.

5. Benedict College, Larry Salley, Benedict College, 1600 Harden Street, Columbia, SC 29204. Grant: $500,000.

6. C.A. Fredd Technical College Campus of Shelton Community College, Dr. Cordell Wynn, C.A. Fredd Technical College Campus, 3401 Martin Luther King, Jr. Blvd., Tuscaloosa, AL 35401. Grant: $300,000.

7. Coahoma Community College, Dr. Hazeltine Woods-Fouché, Coahoma Community College, 3240 Friars Point Road, Clarksdale, MS 38614. Grant: $492,723.

8. Edward Waters College, Ellis Brown, Edward Waters College, 1658 North Kings Road, Jacksonville, FL 32209. Grant: $494,975.

9. Elizabeth City State University, Morris Autry, Elizabeth City State University, 1704 Weeksville Road, Elizabeth City, NC 27909. Grant: $500,000.

10. Florida Agricultural and Mechanical University, Dr. Patricia McGill, Florida Agricultural and Mechanical University, 400 Foote Hillyer Administration Center, Tallahassee, FL 32307. Grant: $500,000.

11. Hinds Community College, Dr. George Barnes, Hinds Community College, Raymond, MS 39154. Grant: $300,000.

12. Jackson State University, Dr. Gail Grass Fulgham, Jackson State University, 1400 J.R. Lynch Street, Jackson, MS 39217. Grant: $500,000.

13. Johnson C. Smith University, Steven Washington, Johnson C. Smith University, 100 Beatties Ford Road, Charlotte, NC 28216. Grant: $495,998.

14. LeMoyne-Owen College, Jeffrey Higgs, LeMoyne-Owen College, 807 Walker Avenue, Memphis, TN 39126. Grant: $500,000.

15. Oakwood College, Marcia Adams Burnette, Oakwood College, 7000 Adventist Blvd., Huntsville, AL 35896. Grant: $409,960.

16. Stillman College, Dr. Eddie B. Thomas, Stillman College, 3600 Tuscaloosa, AL 35403. Grant: $500,000.

17. University of the Virgin Islands, Dr. Laverne Ragster, University of the Virgin Islands, 2 John Brewer's Bay, St. Thomas, VI 00802. Grant: $300,000.

18. Voorhees College, Elona Carolyn Davis, Voorhees College, 1411 Voorhees Road, Denmark, SC 29042. Grant: $500,000.

Southwest

19. St. Philip's College, Mayme Bailey Williams, St. Philip's College, 1801 Martin Luther King Drive, San Antonio, TX 78203. Grant: $500,000.

20. Texas Southern University, Ella Nunn, Texas Southern University, 3100 Cleburne Avenue, Houston, TX 77004. Grant: $500,000.

Great Plains

21. University of Arkansas at Pine Bluff, Henry Golatt, University of Arkansas at Pine Bluff, 1200 North University Drive, Mail Slot 4943, Pine Bluff, AR 71601. Grant: $500,000.

22. Harris-Stowe State College, Hattie Weaver, Harris-Stowe State College, 3026 Laclede Avenue, St. Louis, MO 63103. Grant: $481,490.

Dated: November 8, 2001.
Lawrence L. Thompson,
General Deputy Assistant Secretary for Policy Development and Research.

[FR Doc. 01-28775 Filed 11-16-01; 8:45 am]

BILLING CODE 4210-62-P